DEPARTMENT OF TRANSPORTATION

Pipeline and Hazardous Materials Safety Administration

Hazardous Materials; Notice of Application for Modification of Special Permit

AGENCY: Office of Hazardous Materials Safety, Pipeline and Hazardous Materials Safety Administration, PHMSA, DOT.

ACTION: List of application for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the sun (“M” denote a modification request. These applications have been separated from the new application for special permits to facilitate processing.

DATES: Comments must be received on or before May 8, 2015.

ADDRESSES: Address Comments To: Record Center, Pipeline and Hazardous Materials Safety Administration, U.S. Department of Transportation, Washington, DC 20590. Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for modification of special permit is published in accordance with Part 107 of the Federal hazardous materials transportation law (49 U.S.C. 5117(b); 49 CFR 1.53(6)).

Issued in Washington, DC, on April 8, 2015.
Donald Burger,
Chief, General Approvals and Permits.

Application No. | Docket No. | Applicant | Regulation(s) affected | Nature of special permits thereof
MODIFICATION SPECIAL PERMITS
0587-M1 |  | Thermo King Corporation Minneapolis, MN | 49 CFR 177.834(12)(i) | To modify the special permit to authorize a new series of heaters containing Class 3 liquids and/or Division 2.1 gases.
11911-M |  | Transfer Flow, Inc. Chico, CA | 49 CFR 177.834(h), and 178.700(c)(1) | To modify the special permit to remove the requirement that the discharge outlet is at the highest point of the tank.
12187-M |  | ITW Sexton Decatus, AL | 49 CFR 173.304a; 175.3; 178.65 | To modify the special permit to raise the size for inner non-refillable metal receptacles to a water capacity of 61.0 cubic inches and add additional hazardous materials.
14437-M |  | Columbiana Boiler Company (CBCo) LLC Columbiana, OH | 49 CFR 179.300 | To modify the special permit to authorize an additional manufacturing specification CBC 106W and the removal of clarification of language inconsistent with 179.300-19.
14778-M |  | Sea-Fire Marine Baltimore, MD | 49 CFR 173.301(f) | To modify the special permit to authorize non-DOT specification cylinders being used on foreign vessel to be transported for service while the vessel is in USA water.
14808-M1 |  | Amtrol-Alfa Metalomecanica, S.A. West Warwick, RI | 49 CFR 178.51(b), (f)(1) and (2) and (g) | To modify the special permit to raise the maximum water capacity to 35.8 liters (9.5 US gallons).
14849-M |  | Call2Recycle, Inc. Atlanta, GA | 49 CFR 172.200, 172.300, 172.400 | To modify the special permit to remove the size restrictions for non-spillable batteries, add rail shipments and the Virgin Islands as an additional route.
15491-M |  | Sea-Fire Marine Baltimore, MD | 49 CFR 173.301(f) | To modify the special permit to authorize non-DOT specification cylinders being used on foreign vessel to be transported for service while the vessel is in USA water.
16142-M |  | Nontong CIMC Tank Equipment Co. Ltd. Jiangsu, Province | 49 CFR 178.274(b) and 178.276(b)(1) | To modify the special permit to specify the material of construction for the inner shell, raise the design pressure, water specification, and delete the quantity of baffles.

[FR Doc. 2015-09356 Filed 4-22-15; 8:45 am]

BILLING CODE 4909-60-M